ENVIRONMENTAL PROTECTION AGENCY

[EPA-HQ-OAR-2020-0622; FRL-9141-01-OMS]

Information Collection Request Submitted to OMB for Review and Approval; Comment Request; NESHAP for Wood Furniture Manufacturing Operations (Renewal)

AGENCY: Environmental Protection Agency (EPA).

ACTION: Notice.

SUMMARY: The Environmental Protection Agency (EPA) has submitted an information collection request (ICR), NESHAP for Wood Furniture Manufacturing Operations (EPA ICR Number 1716.11, OMB Control Number 2060-0324), to the Office of Management and Budget (OMB) for review and approval in accordance with the Paperwork Reduction Act. This is a proposed extension of the ICR, which is currently approved through December 31, 2021. Public comments were previously requested, via the Federal Register, on February 8, 2021 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before November 15, 2021.

ADDRESSES: Submit your comments, referencing Docket ID Number EPA-HQ-OAR-2020-0622, online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: Supporting documents, which explain in detail the information that the EPA will be collecting, are available in the public docket for this ICR. The docket can be viewed online at https://www.regulations.gov, or in person at the EPA Docket Center, WJC West Building, Room 3334, 1301 Constitution Ave. NW, Washington, DC. The telephone number for the Docket Center is 202-566-1744. For additional information about EPA's public docket, visit http://www.epa.gov/dockets.

Abstract: Owners and operators of wood furniture manufacturing facilities are required to comply with reporting and record keeping requirements for the general provisions of 40 CFR part 63, subpart A, as well as the applicable specific standards in 40 CFR part 63 subpart JJ. This includes submitting initial notifications, performance tests and periodic reports and results, and maintaining records of the occurrence and duration of any startup, shutdown, or malfunction in the operation of an affected facility, or any period during which the monitoring system is inoperative. These reports are used by EPA to determine compliance with these standards.

Form Numbers: None.

Respondents/affected entities: Wood furniture manufacturing facilities.

Respondent's obligation to respond: Mandatory (40 CFR part 63, subpart JJ).

Estimated number of respondents: 230 (total), consisting of 142 existing major sources and 88 existing incidental/area sources.

Frequency of response: Quarterly and semi-annually.

Total estimated burden: 15,900 hours (per year). Burden is defined at 5 CFR 1320.3(b).

Total estimated cost: $1,890,000 (per year), which includes $12,900 in annualized capital/startup and/or operation & maintenance costs.

Changes in the Estimates: There is a decrease in burden from the most-recently approved ICR as currently identified in the OMB Inventory of Approved Burdens. This is due to a decrease in the number of respondents subject to Subpart JJ. The estimated number of respondents is based on a review of affected facilities in EPA's Enforcement and Compliance History Online (ECHO) database and reflects consolidation within the industry. The regulations have not changed significantly over the past three years and are not anticipated to change significantly over the next three years. The growth rate for this industry is very low or non-existent, so there is no significant change in the overall burden. Since there are no significant changes in the regulatory requirements and there is no significant industry growth, there are no changes in the capital/startup cost. There is a decrease in operation and maintenance (O&M) costs due to a decrease in the number of respondents with these costs. Operation and maintenance (O&M) costs have been updated from year 2001 to year 2019 using the CEPCI Index.

Courtney Kerwin,
Director, Regulatory Support Division.

[FR Doc. 2021-22300 Filed 10-13-21; 8:45 am]

BILLING CODE 6560-50-P